DEPARTMENT OF THE INTERIOR

Minerals Management Service

Outer Continental Shelf (OCS), Alaska OCS Region, Beaufort Sea and Chukchi Sea, Proposed Oil and Gas Lease Sales for Years 2007 to 2012

AGENCY: Minerals Management Service (MMS), Interior.

ACTION: Correction of the Call for Information and Nominations and Notice of Intent (NOI) to prepare an Environmental Impact Statement (EIS).

SUMMARY: On August 23, 2007, pursuant to 30 CFR 256 and 40 CFR 1501.7 as a matter of information to the public, the MMS published in the Federal Register a Call for Information and Nomination and Notice of Intent to Prepare an EIS for the Beaufort Sea and Chukchi Sea OCS planning areas. The Call is the initial step of a multiple sale process that incorporates planning and analysis for the Alaska lease sales included in the proposed final OCS Oil and Gas Leasing Program 2007-2012. We inadvertently omitted a page-size map of the Beaufort Sea Planning Area which should have accompanied a page-size map of the Chukchi Sea Planning Area and instead included two duplicate page-size maps of the Chukchi Sea Planning Area. The correct Beaufort Sea Planning Area map accompanies this notice.

DATES: Nominations and Information must be received no later than October 9, 2007. This correction is effective as of the date of publication of this notice.

FOR FURTHER INFORMATION CONTACT: Please contact Fred King at (907) 334-5271 in MMS's Alaska OCS Region, 3801 Centerpoint Drive, Ste. 500, Anchorage, AK 99503-5823.

SUPPLEMENTARY INFORMATION:

Need for Correction

As published in the Federal Register on August 23, 2007 (72 FR 48295), the Call contains an error that is in need of correction.

Correction of Publication

Accordingly, the publication on August 23, 2007 (72 FR 48295) is corrected as follows: On page 48300, the accompanying map titled, “Proposed Beaufort Sea Sales 209 and 217” replaces the duplicate map titled “Proposed Chukchi Sea Sales 212 and 221.”

Dated: September 6, 2007.
Randall B. Luthi,
Director, Minerals Management Service.

BILLING CODE 4310-MR-P

[FR Doc. 07-4586 Filed 9-14-07:8:45 am]

BILLING CODE 4310-MR-C